FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012415.

Title: COSCON/UASC Slot Charter Agreement Asia—USEC.

Parties: COSCO Container Lines Co. Ltd. and United Arab Shipping Co, S.A.G.

Filing Party: Eric. C. Jeffrey, Esq.; Nixon Peabody LLP; 799 9th Street NW., Suite 500; Washington, DC 20001.

Synopsis: The agreement authorizes UASC to charter space from COSCON in the trade between the U.S. East Coast on the one hand, and China (including Hong Kong) and Panama on the other hand.

Agreement No.: 012416.

Title: Network Shipping Ltd./Cool Carriers AB Space Charter and Sailing Agreement.

Parties: Network Shipping Ltd. and Cool Carriers AB.

Filing Party: Antonio Fernandez; Network Shipping; 241 Sevilla Ave.; Coral Cables, FL 33134.

Synopsis: The agreement authorizes Network Shipping to charter space to Cool Carriers AB for the carriage of empty refrigerated containers in the trade between Port Hueneme, CA and Ecuador, and in the trade between Port Gloucester, NJ and Costa Rica.

By Order of the Federal Maritime Commission.
Dated: June 3, 2016.
Rachel E. Dickon,
Assistant Secretary.

[FR Doc. 2016-13532 Filed 6-7-16; 8:45 am]

BILLING CODE 6731-AA-P